DEPARTMENT OF COMMERCE

International Trade Administration

(C-423-809)

Stainless Steel Plate in Coils from Belgium: Notice of Amended Final Results of Countervailing Duty Administrative Review

AGENCY: Import Administration, International Trade Administration, Department of Commerce.

SUMMARY: The United States Court of International Trade has affirmed the Department of Commerce's redetermination pursuant to remand regarding the administrative review of the countervailing duty order on stainless steel plate in coils from Belgium covering the period September 4, 1998, through December 31, 1999. See ALZ N.V. v. United States, Slip Op. 04-38, Court No. 01-00834 (CIT April 22, 2004). Although the Department of Commerce appealed the United States Court of International Trade's decision to the United States Court of Appeals for the Federal Circuit, the Department of Commerce did not further pursue this appeal, and the United States Court of Appeals for the Federal Circuit dismissed the case. As there is now a final and conclusive court decision in this case, we are amending the final results of review and we will instruct U.S. Customs and Border Protection to liquidate entries subject to this review.

EFFECTIVE DATE: April 11, 2005.

FOR FURTHER INFORMATION CONTACT: Melani Miller Harig or Marc Rivitz, AD/CVD Operations, Office 1, Import Administration, U.S. Department of Commerce, Room 3099, 14th Street and Constitution Avenue, NW, Washington, DC 20230; telephone (202) 482-0116 and (202) 482-1382, respectively.

SUPPLEMENTARY INFORMATION:

Scope of the Order

Imports covered by the order are shipments of certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this review are the following: (1) plate not in coils, (2) plate that is not annealed or otherwise heat treated and pickled or otherwise descaled, (3) sheet and strip, and (4) flat bars. In addition, certain cold-rolled stainless steel plate in coils is also excluded from the scope of this order.¹ The excluded cold-rolled stainless steel plate in coils is defined as that merchandise which meets the physical characteristics described above that has undergone a cold-reduction process that reduced the thickness of the steel by 25 percent or more, and has been annealed and pickled after this cold reduction process.

¹ We note that, although the scope of the original order was revised (see Notice of Amended Countervailing Duty Orders; Certain Stainless Steel Plate in Coils from Belgium, Italy, and South Africa, 68 FR 11524 (March 11, 2003)), the revised scope did not take effect until March 11, 2003. Thus, the revised scope is not applicable to the instant proceeding because this proceeding covered a time period (September 4, 1998 through December 31, 1999) prior to that date. On March 11, 2003, the Department revised the HTSUS numbers from the original scope description to take into account changes to the HTSUS numbers themselves since that time.

The merchandise covered by this order is currently classifiable in the Harmonized Tariff Schedule of the United States (“HTSUS”) at subheadings 7219.11.00.30, 7219.11.00.60, 7219.12.00.06, 7219.12.00.21, 7219.12.00.26, 7219.12.00.51, 7219.12.00.56, 7219.12.00.66, 7219.12.00.71, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTSUS headings are provided for convenience and customs purposes, the written description of the scope is dispositive.

Background

On August 27, 2001, the Department of Commerce (“the Department”) published its final results of administrative review of the countervailing duty order on stainless steel plate in coils from Belgium covering the period September 4, 1998 through December 31, 1999. See Stainless Steel Plate in Coils from Belgium: Final Results of Countervailing Duty Administrative Review, 66 FR 45007 (August 27, 2001) (“First Review Final Results”). This review covered one producer/exporter, ALZ N.V. In the First Review Final Results, the Department found three equity purchases to confer countervailable subsidies: 1) the Government of Belgium's (“GOB”) purchases of the SIDMAR Group's (“Sidmar”) common and preference shares in 1984; 2) the GOB's purchases of ALZ N.V.'s (“ALZ”) common and preference shares in 1985; and 3) the GOB's 1985 debt-to-equity conversion for Sidmar.

On July 11, 2003, the Court of International Trade (“CIT”) remanded to the Department its determination in the First Review Final Results. See ALZ N.V. v. United States, 283 F. Supp. 2d 1302 (CIT 2003). In its remand order, the CIT directed the Department 1) to apply the equityworthiness methodology in existence at the time of the original petition to the 1984 and 1985 equity investments into Sidmar, and the 1985 equity investment into ALZ; and 2) (a) to scrutinize more closely the terms of the Memorandum of Understanding regarding the purchase of Sidmar's common and preference shares to determine whether such document indicates a binding decision to invest; (b) to re-examine the record for any additional evidence regarding the date upon which the GOB decided to invest in Sidmar's common shares; and (c) to explain the Department's reasoning for choosing the date it finds to be the date the GOB decided to invest.

Although we disagreed with the CIT's instructions to apply the equityworthiness methodology in existence at the time the original petition in the investigation was filed (instead of the methodology that was in place at the time the request for administrative review in the proceeding in question was made, consistent with 19 CFR 351.702(a)(2)) to the 1984 and 1985 equity investments into Sidmar and the 1985 equity investment into ALZ, the Department complied with the CIT's remand instructions and issued the final results of redetermination on December 10, 2003. See Final Results of Redetermination Pursuant to Court Remand: ALZ N.V. v. United States, Slip Op. 03-81, Court No. 01-00834 (CIT July 11, 2003) (“Final Results of Redetermination”). As explained in the Final Results of Redetermination, we made changes to the Department's findings in the First Review Final Results relating to the GOB's 1984 and 1985 equity infusions in Sidmar and ALZ. Specifically, after applying the equityworthiness methodology in existence at the time the petition was filed and based upon our reconsideration, we determined that 1) ALZ was equityworthy at the time of the 1985 investment, and the GOB's purchase of ALZ's common and preference shares in 1985 was not a countervailable subsidy; 2) Sidmar was equityworthy at the time of the 1984 investment, and the GOB's purchase of Sidmar's common and preference shares in 1984 was not a countervailable subsidy; and 3) Sidmar was equityworthy in 1985, but the conversion of Sidmar's debt to equity (convertible profit-sharing bonds to parts beneficiaires) was a countervailable subsidy because the price paid by the GOB exceeded the adjusted market value of Sidmar's common stock. As a result of the Final Results of Redetermination, we recalculated the margin for ALZ.

On April 22, 2004, the CIT issued an order without an opinion affirming the Department's Final Results of Redetermination. See ALZ N.V. v. United States, Slip Op. 04-38, Court No. 01-00834 (CIT April 22, 2004) (“ALZ v. United States”). On May 11, 2004, consistent with the decision of the United States Court of Appeals for the Federal Circuit (“Federal Circuit”) in Timken Co. v. United States, 893 F. 2d 337 (Federal Circuit 1990), the Department notified the public that the CIT's decision in ALZ v.United States was “not in harmony” with the First Review Final Results. See Stainless Steel Plate in Coils From Belgium: Notice of Decision of the Court of International Trade, 69 FR 26075 (May 11, 2004).

On June 24, 2004, the Department appealed the CIT's decision to the Federal Circuit. The Department did not further pursue this appeal, and the Federal Circuit dismissed the case on October 28, 2004. As there is now a final and conclusive court decision in this action, we are amending our final results of review and we will instruct the U.S. Customs and Border Protection (“CBP”) to liquidate entries subject to this review.

Amended Final Results

Pursuant to section 516A(e) of the Tariff Act of 1930, as amended by the Uruguay Round Agreements Act effective January 1, 1995 (“the Act”), we are now amending the final results of administrative review of the countervailing duty order on stainless steel plate in coils from Belgium for the period September 4, 1998 through December 31, 1999.

In the First Review Final Results, we calculated individual subsidy rates for ALZ, the only producer/exporter subject to this administrative review. As noted in the First Review Final Results, because it is the Department's practice to calculate subsidy rates on an annual basis, we calculated a 1998 rate and a 1999 rate for ALZ. The rate calculated for 1998 will be applicable only to entries, or withdrawals from warehouse, for consumption made on or after September 4, 1998 and on or before December 31, 1998.

The amended individual subsidy rates for ALZ for the First Review Final Results are as follows:

Producer/Exporter (Applicable Year) | Net Subsidy Rate
ALZ N.V. (1998) | 1.36 percent
ALZ N.V. (1999) | 0.97 percent

The Department will issue appraisement instructions directly to the CBP. The Department will instruct the CBP to assess appropriate countervailing duties on the relevant entries of the subject merchandise covered by this review. In accordance with section 703(d) of the Act, countervailing duties will not be assessed on entries made during the period January 2, 1999 through May 10, 1999.

We will also instruct the CBP to collect cash deposits of estimated countervailing duties at the 1999 rate on the f.o.b. value of all shipments of the subject merchandise from ALZ entered, or withdrawn from warehouse, for consumption on or after the date of publication of this notice. The cash deposit rates for all other companies not covered by this review are not changed by the amended final results of this review.

This notice is issued and published in accordance with section 751(a)(1) of the Act.

Dated: April 4, 2005.
Joseph A. Spetrini,
Acting Assistant Secretary for Import Administration.

[FR Doc. E5-1658 Filed 4-8-05; 8:45 am]

BILLING CODE: 3510-DS-S